DEPARTMENT OF VETERANS AFFAIRS

38 CFR Part 3

RIN 2900-AM28

Accrued Benefits; Correction

AGENCY: Department of Veterans Affairs.

ACTION: Correcting amendment.

SUMMARY: This document contains a minor correction to the final regulations that the Department of Veterans Affairs (VA) published in 71 FR 78368 on December 29, 2006. The regulation relates to the Payment of Benefits to Survivors of Estates of Deceased Beneficiaries. No substantive change to the content of the regulation is being made by correcting this amendment.

DATES: Effective Date: October 17, 2008.

FOR FURTHER INFORMATION CONTACT: Denise Kemp-Nichols, Regulations Staff (211D), Compensation and Pension Service, Veterans Benefits Administration, Department of Veterans Affairs, 810 Vermont Avenue, NW., Washington, DC 20420, (202) 461-9724.

SUPPLEMENTARY INFORMATION: VA published a final rule in the Federal Register on December 29, 2006 (See 71 FR 78368) revising its final rule eliminating the 2-year limitation on accrued benefits. In that document, VA failed to amend 38 CFR 3.816(f)(2). This document corrects that error by removing the entire first sentence of 38 CFR 3.816(f)(2) and in the second sentence, by removing the word “also” after words “accrued benefits.”

List of Subjects in 38 CFR Part 3

Administrative, practice and procedures, Claims, Disability benefits, Health care, Pensions, Veterans, Vietnam.

Approved: October 10, 2008.
William F. Russo,
Director of Regulations Management.

For the reason set out in the preamble, VA is correcting 38 CFR part 3 as follows.

PART 3—ADJUDICATION

1. The authority citation for part 3, subpart A continues to read as follows:

Authority: 38 U.S.C. 501(a), unless otherwise noted.

§ 3.816 [Corrected]

2. In § 3.816, paragraph (f)(2) is amended by removing the entire first sentence and in the second sentence removing the word “also”.

[FR Doc. E8-24650 Filed 10-16-08; 8:45 am]

BILLING CODE 8320-01-P